ENVIRONMENTAL PROTECTION AGENCY

[FRL-8019-9]

Good Neighbor Environmental Board; Notification of Public Advisory Committee Teleconference Meeting

AGENCY: Environmental Protection Agency (EPA).

ACTION: Notification of Public Advisory Committee Teleconference Meeting.

SUMMARY: Pursuant to the Federal Advisory Committee Act, Public Law 92-463, notice is hereby given that the Good Neighbor Environmental Board will meet in a public teleconference on January 25, 2005, from 2 p.m. to 3:30 p.m. Eastern Time. The meeting will be hosted out of the main conference room, U.S. EPA, 655 15th Street, NW., Suite 800, Washington, DC 20005. The meeting is open to the public, however, due to limited space, seating will be on a registration-only basis. For further information regarding the teleconference meeting, please contact the individual listed below.

Background: The Good Neighbor Environmental Board (GNEB) is a Federal advisory committee based at the Environmental Protection Agency that reports to the United States President and Congress on Good Neighbor environmental practices along the U.S. border with Mexico. The GNEB consists of representatives from eight Federal government agencies, each of the four U.S. border states, and private and public sector organizations. Each year, the GNEB prepares an annual report to the President and Congress.

Purpose of Meeting: The Board has prepared its latest draft annual report, its Ninth Report. The purpose of this teleconference is for the Board to review, discuss, and decide whether to approve the recommendations in the report.

Availability of Review Materials: If you wish to receive a copy of the draft recommendations, please contact Ms. Elaine Koerner, Designated Federal Officer for the Board, at the number below.

SUPPLEMENTARY INFORMATION: Members of the public wishing to gain access to the conference room on the day of the meeting must contact Ms. Elaine Koerner, Designated Federal Officer for the Good Neighbor Environmental Board, U.S. Environmental Protection Agency (1601E), Office of Cooperative Environmental Management, 655 15th Street, NW., Suite 800, Washington, DC 20005; telephone/voice mail at (202) 233-0069 or via e-mail at koerner.elaine@epa.gov. If you wish to make oral comments or to submit written comments to the Board, please contact Ms. Koerner by January 18, 2005.

General Information: Additional information concerning the Good Neighbor Environmental Board can be found on its Web site (http://www.epa.gov/ocem/gneb).

Meeting Access: For information on access or services for individuals with disabilities, please contact Elaine Koerner at 202-233-0069 or koerner.elaine@epa.gov. To request accommodation of a disability, please contact Elaine Koerner, preferably at least 10 days prior to the meeting, to give EPA as much time as possible to process your request.

Dated: December 22, 2005.
Elaine Koerner,
Designated Federal Officer.

[FR Doc. E6-29 Filed 1-5-06; 8:45 am]

BILLING CODE 6560-50-P